DEPARTMENT OF COMMERCE

National Oceanic and Atmospheric Administration

RIN 0648-XG422

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet September 5-12, 2018. The Pacific Council meeting will begin on Friday, September 7, 2018 at 10 a.m. Pacific Daylight Time (PDT), reconvening at 8 a.m. each day through Wednesday, September 12, 2018. All meetings are open to the public, except a closed session will be held from 8 a.m. to 10 a.m., Friday, September 7 to address litigation and personnel matters. The Pacific Council will meet as late as necessary each day to complete its scheduled business.

ADDRESSES: Meetings of the Pacific Council and its advisory entities will be held at the Doubletree by Hilton Hotel Seattle Airport, 18740 International Blvd., Seattle, WA; telephone: (206) 246-8600.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the current meeting location, proposed agenda, and meeting briefing materials.

SUPPLEMENTARY INFORMATION: The September 7-12, 2018 meeting of the Pacific Council will be streamed live on the internet. The broadcasts begin initially at 10 a.m. PDT Friday, September 7, 2018 and continue at 8 a.m. daily through Wednesday, September 12, 2018. Broadcasts end daily at 5 p.m. PDT or when business for the day is complete. Only the audio portion and presentations displayed on the screen at the Pacific Council meeting will be broadcast. The audio portion is listen-only; you will be unable to speak to the Pacific Council via the broadcast. To access the meeting online, please use the following link: http://www.gotomeeting.com/online/webinar/join-webinar and enter the September Webinar ID, 530-089-227, and your email address. You can attend the webinar online using a computer, tablet, or smart phone, using the GoToMeeting application. It is recommended that you use a computer headset to listen to the meeting, but you may use your telephone for the audio-only portion of the meeting. The audio portion may be attended using a telephone by dialing the toll number 1-562-247-8321 (not a toll-free number), audio access code 240-052-611, and entering the audio pin shown after joining the webinar.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.5, Proposed Council Meeting Agenda, and will be in the advance September 2018 briefing materials and posted on the Pacific Council website at www.pcouncil.org no later than Monday, August 20, 2018.

A. Call to Order

1. Opening Remarks

2. Council Member Appointments

3. Roll Call

4. Executive Director's Report

5. Approve Agenda

B. Open Comment Period

1. Comments on Non-Agenda Items

C. Coastal Pelagic Species

1. Amendment 17: Live Bait Fishery Allowance

D. Habitat

1. Current Habitat Issues

E. Salmon

1. Salmon Methodology Review—Final Topic Selection

2. Update on Salmon Rebuilding Plans

F. Administrative

1. Research and Data Needs Document—Final Adoption

2. Legislative Matters

3. Electronic Monitoring Program Review and Cost Allocation Procedural Directive

4. Fiscal Matters

5. Approval of Council Meeting Record

6. Membership Appointments and Council Operating Procedures

7. Future Council Meeting Agenda and Workload Planning

G. Ecosystem Management

1. West Coast Ecosystem-Based Fishery Management Roadmap Implementation

2. Fishery Ecosystem Plan Five-Year Review—Scoping

3. Climate and Communities Initiative Update

H. Highly Migratory Species

1. National Marine Fisheries Service Report

2. Final Recommendations on Non-Deep-Set Buoy Gear Exempted Fishing Permits (EFPs)

3. Recommend International Management Activities

4. Biennial Harvest Specifications and Management Measures

5. Drift Gillnet Performance Metrics Methodology

6. Swordfish Monitoring and Management Plan

I. Groundfish Management

1. National Marine Fisheries Service Report

2. Amendment 28—Essential Fish Habitat and Rockfish Conservation Area—Implementation Update

3. Endangered Species Act Consultation on Eulachon

4. Stock Assessment Terms of Reference—Final Action

5. Methodology Review—Preliminary Topic Selection

6. Science Improvement Report

7. Five-Year Catch Share Follow On Action—Preliminary Action

8. Continuing Midwater Trawl and Gear EFP and Salmon Bycatch Provisions in New EFPs

9. Omnibus Workload Planning Process

10. Inseason Adjustments—Final Action

J. Pacific Halibut Management

1. 2019 Catch Sharing Plan and Annual Regulations

Advisory Body Agendas

Advisory body agendas will include discussions of relevant issues that are on the Pacific Council agenda for this meeting, and may also include issues that may be relevant to future Council meetings. Proposed advisory body agendas for this meeting will be available on the Pacific Council website http://www.pcouncil.org/council-operations/council-meetings/current-briefing-book/ no later than Monday, August 20, 2018.

Schedule of Ancillary Meetings

Day 1—Wednesday, September 5, 2018

Scientific and Statistical Committee Ecosystem Subcommittee: 8 a.m.

Day 2—Thursday, September 6, 2018

Coastal Pelagic Species Advisory Subpanel: 8 a.m.

Coastal Pelagic Species Management Team: 8 a.m.

Ecosystem Advisory Subpanel: 8 a.m.

Ecosystem Workgroup: 8 a.m.

Habitat Committee: 8 a.m.

Scientific and Statistical Committee: 8 a.m.

Legislative Committee: 10 a.m.

Budget Committee: 1 p.m.

Day 3—Friday, September 7, 2018

California State Delegation: 7 a.m.

Oregon State Delegation: 7 a.m.

Washington State Delegation: 7 a.m.

Ecosystem Advisory Subpanel: 8 a.m.

Ecosystem Plan Development Team: 8 a.m.

Highly Migratory Species Advisory Subpanel: 8 a.m.

Highly Migratory Species Management Team: 8 a.m.

Enforcement Consultants: 8 a.m.

Scientific and Statistical Committee: 8 a.m.

Day 4—Saturday, September 8, 2018

California State Delegation: 7 a.m.

Oregon State Delegation: 7 a.m.

Washington State Delegation: 7 a.m.

Groundfish Advisory Subpanel: 8 a.m.

Groundfish Management Team: 8 a.m.

Highly Migratory Species Advisory Subpanel: 8 a.m.

Highly Migratory Species Management Team: 8 a.m.

Enforcement Consultants: Ad Hoc

Day 5—Sunday, September 9, 2018

California State Delegation: 7 a.m.

Oregon State Delegation: 7 a.m.

Washington State Delegation: 7 a.m.

Groundfish Advisory Subpanel: 8 a.m.

Groundfish Management Team: 8 a.m.

Enforcement Consultants: Ad Hoc

Day 6—Monday, September 10, 2018

California State Delegation: 7 a.m.

Oregon State Delegation: 7 a.m.

Washington State Delegation: 7 a.m.

Groundfish Advisory Subpanel: 8 a.m.

Groundfish Management Team: 8 a.m.

Enforcement Consultants: Ad Hoc

Day 7—Tuesday, September 11, 2018

California State Delegation: 7 a.m.

Oregon State Delegation: 7 a.m.

Washington State Delegation: 7 a.m.

Groundfish Advisory Subpanel: 8 a.m.

Groundfish Management Team: 8 a.m.

Enforcement Consultants: Ad Hoc

Day 8—Wednesday, September 12, 2018

California State Delegation: 7 a.m.

Oregon State Delegation: 7 a.m.

Washington State Delegation: 7 a.m.

Although non-emergency issues not contained in this agenda may come before the Pacific Council for discussion, those issues may not be the subject of formal Council action during this meeting. Council action will be restricted to those issues specifically listed in this notice and any issues arising after publication of this notice that require emergency action under section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2280, ext. 411 at least ten business days prior to the meeting date.

Dated: August 14, 2018.
Tracey L. Thompson,
Acting Deputy Director, Office of Sustainable Fisheries, National Marine Fisheries Service.

[FR Doc. 2018-17775 Filed 8-16-18; 8:45 am]

BILLING CODE 3510-22-P